DEPARTMENT OF HOUSING AND URBAN DEVELOPMENT

24 CFR Part 1003

[Docket No. FR-5232-F-02]

RIN 2577-AC79

Regulatory Reporting Requirements for the Indian Community Development Block Grant Program

AGENCY: Office of the Assistant Secretary for Public and Indian Housing, HUD.

ACTION: Final rule.

SUMMARY: This final rule revises the reporting requirements for the Indian Community Development Block Grants (ICDBG) program. First, the rule provides for submission of a single annual report on the hiring of minority business enterprises, due each October. Currently, ICDBG grantees are required to report on these activities on a semiannual basis, with reports being due to HUD on April 10 and October 10 of each year. Second, this rule requires ICDBG grantees to use the Logic Model form developed as part of HUD's Notice of Funding Availability (NOFA) process. The required use of the Logic Model will conform the ICDBG reporting requirements to those of other HUD competitive funding programs, and enhance the evaluation of grantee performance by ensuring uniformity in the information provided by ICDBG grantees on performance goals. This final rule follows publication of an October 23, 2009, proposed rule on which HUD received two public comments, both of which were supportive of the rule.

DATES: Effective Date: May 19, 2010.

FOR FURTHER INFORMATION CONTACT: Deborah Lalancette, Director, Office of Grants Management, Office of Native American Programs, Department of Housing and Urban Development, 1670 Broadway, 23rd Floor, Denver, CO 80202, telephone number 301-675-1600 (this is not a toll-free number). Hearing- or speech-impaired individuals may access this number through TTY by calling the Federal Information Relay Service at 800-877-8339 (this is a toll-free number).

SUPPLEMENTARY INFORMATION:

I. Background

On October 23, 2009 (74 FR 54886), HUD published for public comment a proposed rule to revise the reporting requirements for the Indian Community Development Block Grant (ICDBG) program. The purpose of the ICDBG program is the development of viable Indian and Alaska Native communities, including the creation of decent housing, suitable living environments, and economic opportunities primarily for persons with low and moderate incomes.

HUD's regulations implementing the ICDBG program are located at 24 CFR part 1003 (entitled “Community Development Block Grants for Indian Tribes and Alaska Native Villages”). Section 1003.506 of the ICDBG program regulations establishes several reporting requirements for ICDBG grantees. Specifically, grantees are required to submit an annual status and evaluation report (ASER) on previously funded open grants 45 days after the end of the fiscal year (FY) and upon grant closeout (§ 1003.506(a)). ICDBG grantees are also required to report on minority-owned business enterprises on a semiannual basis, with reports being due to HUD on April 10 and October 10 of each year (§ 1003.506(b)). HUD requires submission of these semiannual reports to evaluate ICDBG grantee compliance with the government-wide grant requirements regarding contracting with minority-owned business enterprises codified at 24 CFR 85.36(e). HUD believes that a single report would be less burdensome for grantees to prepare and would be enough for HUD to monitor compliance with the part 85 minority business enterprise requirements. Therefore, this final rule, consistent with the October 23, 2009, proposed rule, revises § 1003.506(b) to provide for a single annual report to be due each October 10.

Each year, HUD publishes NOFAs that announce funding availability for the majority of HUD's competitive grant programs, including the ICDBG program. The FY 2004 NOFA process introduced a planning form known as the Logic Model (form HUD-96010). Most grantees are required to submit a Logic Model form that identifies the problem or need the grant will address, the services or activities to be provided with grant funding, and the reporting tools that will be used to measure results achieved. Indian tribes have not been required to use the Logic Model form. Nevertheless, several ICDBG grantees have chosen to use the Logic Model.

This exemption for Indian tribes was based on HUD's desire to consult with Indian tribes before making the form HUD-96010 a mandatory reporting requirement for ICDBG grant funding. As more fully described in section III of the preamble to the October 23, 2009, proposed rule, HUD consulted with Indian tribes on the Logic Model form. After considering the views and opinions expressed during the consultation process, HUD announced its intent, through publication of the October 23, 2009, proposed rule, to require use of the Logic Model as an ICDBG program requirement.

The proposed rule continued HUD's process of developing the regulatory changes with active tribal participation, by soliciting comments from the public on the mandatory use of the Logic Model in the ICDBG program. As noted, several Indian tribes already use form HUD-96010. The use of the Logic Model form, as required by this final rule, will help ensure uniformity in the information provided by ICDBG grantees on performance goals, and thereby facilitate the evaluation of grantee performance. The Logic Model will be included as part of the ASER requirement, which is codified at § 1003.506(a).

II. This Final Rule; Discussion of Public Comments Received on the October 23, 2009, Proposed Rule

This final rule follows publication of the October 23, 2009, proposed rule and takes into consideration the public comments received on the proposed rule. After considering the comments, HUD has decided to adopt the October 23, 2009, proposed rule without change.

The public comment period on the proposed rule closed on December 22, 2009, and HUD received two comments from an Indian tribal community development agency and an individual citizen. Both commenters expressed support for the proposed rule. One commenter stated that the new requirement to provide HUD a single annual report on the hiring of minority business enterprises will reduce redundant paperwork and eliminate duplicative reporting. The second commenter stated support for HUD's effort to conform the ICDBG reporting requirements with those of other HUD funding programs in order to ensure the uniformity of information provided by grantees on performance goals.

III. Findings and Certifications

Paperwork Reduction Act

The information collection requirements contained in this final rule have been submitted to the Office of Management and Budget (OMB) under the Paperwork Reduction Act of 1995 (44 U.S.C. 3501-3520) and assigned OMB Control Number 2535-0114. In accordance with the Paperwork Reduction Act, an agency may not conduct or sponsor, and a person is not required to respond to, a collection of information, unless the collection displays a currently valid OMB control number.

Regulatory Flexibility Act

The Regulatory Flexibility Act (5 U.S.C. 601 et seq.) generally requires an agency to conduct a regulatory flexibility analysis of any rule subject to notice and comment rulemaking requirements, unless the agency certifies that the rule will not have a significant economic impact on a substantial number of small entities.

This final rule would not impose any economic burdens on small entities. Rather, the regulatory amendments will simplify and reduce the reporting requirements for ICDBG program grantees. As discussed above in this preamble, the final rule will reduce the number of required small business enterprise reports from two to a single report to be submitted each October. The final rule will also require the use of the Logic Model form in the preparation of the ASER, which ICDBG grantees are already required by regulation to submit to HUD. As noted, several grantees are already using the Logic Model, which has been a familiar part of the NOFA process since FY 2004. While the format of the Logic Model is relatively new, the data collection responsibility is not. The data required is already recorded by the tribes; it will merely be presented in a new format. The required use of the Logic Model will conform the ICDBG reporting requirements to those of other HUD competitive funding programs. The change will also help ensure uniformity in the information provided by ICDBG grantees on performance goals, and thereby facilitate the evaluation of grantee performance.

For the above reasons, the undersigned has determined that the final rule will not have a significant economic impact on a substantial number of small entities.

Environmental Impact

This final rule does not direct, provide for assistance or loan and mortgage insurance for, or otherwise govern or regulate real property acquisition, disposition, leasing, rehabilitation, alteration, demolition, or new construction; or establish, revise, or provide for standards for construction or construction materials, manufactured housing, or occupancy. Accordingly, under 24 CFR 50.19(c)(1), this rule is categorically excluded from environmental review under the National Environmental Policy Act of 1969 (42 U.S.C. 4321).

Executive Order 13132, Federalism

Executive Order 13132 (entitled “Federalism”) prohibits an agency from publishing any rule that has federalism implications if the rule either imposes substantial direct compliance costs on state and local governments and is not required by statute, or the rule preempts state law, unless the agency meets the consultation and funding requirements of section 6 of the Executive Order. This final rule does not have federalism implications and does not impose substantial direct compliance costs on state and local governments nor preempt state law within the meaning of the Executive Order.

Unfunded Mandates Reform Act

Title II of the Unfunded Mandates Reform Act of 1995 (2 U.S.C. 1531-1538) (UMRA) establishes requirements for federal agencies to assess the effects of their regulatory actions on state, local, and tribal governments, and on the private sector. This final rule does not impose any federal mandates on any state, local, or tribal governments, or on the private sector, within the meaning of UMRA.

Catalog of Federal Domestic Assistance

The Catalog of Federal Domestic Assistance number for the ICDBG program is 14.862.

List of Subjects in 24 CFR Part 1003

Alaska, Community development block grants, Grant programs-housing and community development, Grant programs-Indians, Indians, Reporting and recordkeeping requirements.

For the reasons stated in the preamble, HUD amends 24 CFR part 1003 as follows:

PART 1003—COMMUNITY DEVELOPMENT BLOCK GRANTS FOR INDIAN TRIBES AND ALASKA NATIVE VILLAGES

1. The authority citation for part 1003 continues to read as follows:

Authority: 42 U.S.C. 3535(d) and 5301 et seq.

2. In § 1003.506, redesignate paragraph (a)(3) as paragraph (a)(4), add a new paragraph (a)(3) and revise paragraph (b) to read as follows:

§ 1003.506 Reports.

(a) * * *

(3) Program performance. Data on program outputs and outcomes, in a form prescribed by HUD.

* * * * *

(b) Minority business enterprise reports. Grantees shall submit to HUD, by October 10, a report on contract and subcontract activity during the fiscal year.

* * * * *

Dated: April 6, 2010.
Sandra Henriquez,
Assistant Secretary for Public and Indian Housing.

[FR Doc. 2010-8924 Filed 4-16-10; 8:45 am]

BILLING CODE 4210-67-P